DEPARTMENT OF LABOR

Employment and Training Administration

[TA-W-56,692]

Wiremold/Legrand, Brooks Electronics, Philadelphia, PA; Notice of Termination of Investigation

Pursuant to section 221 of the Trade Act of 1974, as amended, an investigation was initiated on March 7, 2005, in response to a worker petition filed by a company official on behalf of workers at Wiremold/Legrand, Brooks Electronics, Philadelphia, Pennsylvania.

The petitioner has requested that the petition be withdrawn. Consequently, further investigation would serve no purpose and the investigation has been terminated.

Signed in Washington, DC, this 9th day of March, 2005.
Elliott S. Kushner,
Certifying Officer, Division of Trade Adjustment Assistance.

[FR Doc. E5-1354 Filed 3-25-05; 8:45 am]

BILLING CODE 4510-30-P